LIBRARY OF CONGRESS

Copyright Office

37 CFR Parts 201, 220, 222, 223 and 224

[Docket No. 2021-6]

Copyright Claims Board: Initiation of Proceedings and Related Procedures

AGENCY: U.S. Copyright Office, Library of Congress.

ACTION: Notice of proposed rulemaking; extension of comment period.

SUMMARY: The U.S. Copyright Office is extending the deadline for the submission of written comments in response to its September 29, 2021, notification of proposed rulemaking regarding initiating proceedings before the Copyright Claims Board.

DATES: The comment period for the notice of proposed rulemaking published September 29, 2021, at 86 FR 53897, is extended. Initial written comments must be received no later than 11:59 p.m. Eastern Time on November 12, 2021. Written reply comments must be received no later than 11:59 p.m. Eastern Time on November 30, 2021.

ADDRESSES: For reasons of Government efficiency, the Copyright Office is using the regulations.gov system for the submission and posting of public comments in this proceeding. All comments are therefore to be submitted electronically through regulations.gov. Specific instructions for submitting comments are available on the Copyright Office website at https://copyright.gov/rulemaking/case-act-implementation/initiating-proceedings/. If electronic submission of comments is not feasible due to lack of access to a computer and/or the internet, please contact the Office using the contact information below for special instructions.

FOR FURTHER INFORMATION CONTACT: Kevin R. Amer, Acting General Counsel and Associate Register of Copyrights, by email at kamer@copyright.gov, or Whitney Levandusky, Supervisory Attorney-Advisor, by email at wlev@copyright.gov. Both can be reached by telephone at 202-707-8350.

SUPPLEMENTARY INFORMATION: On September 29, 2021, the U.S. Copyright Office issued a notice of proposed rulemaking (“NPRM”) regarding initiating proceedings before the Copyright Claims Board (“CCB”). The Office solicited public comments on a broad range of procedures governing the initial stages of a CCB proceeding, including filing the initial claim, opting out of a proceeding, and filing a response and any counterclaims.

To ensure that members of the public have sufficient time to comment, and to ensure that the Office has the benefit of a complete record, the Office is extending the deadline for the submission of initial comments to no later than 11:59 p.m. Eastern Time on November 12, 2021. The Office is also extending the deadline for the submission of reply comments to no later than 11:59 p.m. Eastern Time on November 30, 2021.

Dated: October 21, 2021.
Kevin R. Amer,
Acting General Counsel and Associate Register of Copyrights.

[FR Doc. 2021-23351 Filed 10-26-21; 8:45 am]

BILLING CODE 1410-30-P